DEPARTMENT OF ENERGY

Federal Energy Regulatory Commission

Notice of Scoping Meetings and Site Visits and Soliciting Scoping Comments

July 27, 2000.

Take notice that the Commission intends to hold scoping meetings for the following hydroelectric applications which have been filed with the Commission:

a. Type of Applications: Two Original Major Licenses.

b. Project Nos.: 10461-002 and 10462-002.

c. Date filed: May 31, 1990.

d. Applicant: Erie Boulevard Hydropower, L.P.

e. Name of Project: Parishville Project and Allens Falls Project.

f. Location: On the West Branch of the St. Regis River, near the village of Parishville, St. Lawrence County, New York. The projects would not utilize federal lands.

g. Filed Pursuant to: Federal Power Act, 16 USC § 791 (a)-825(r).

h. Applicant Contact: Mr. Jerry L. Sabattis, Erie Boulevard Hydropower, L.P., Suite 201, 225 Greenfield Parkway, Liverpool, NY 13088-6656, (315) 413-2700.

i. FERC Contact: Peter Leitzke, (202) 219-2803.

j. Deadline for filing scoping comments: September 18, 2000.

All documents (original and eight copies should be filed with: David P. Boergers. Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: The applications are not ready for environmental analysis at this time..

l. Description of Projects:

Parishville Project: The project consists of the following existing facilities: (1) a dam composed of an earthen dike and various concrete structures; (2) an intake structure; (3) a penstock 2,561 feet long and six to 10 feet in diameter; (4) a powerhouse housing a 2,400-kilowatt (kW) hydropower unit; (5) at tailrace 400 feet long; (6) a 4.8-kilovolt (kV) transmission line; and (7) appurtenant facilities.

Allens Falls Project: The project consists of the following existing facilities: (1) a concrete gravity type dam with flashboard two feet high; (2) an intake structure; (3) a pipeline 9,344 feet long and seven feet in diameter; (4) a differential surge tank; (5) a penstock 886 feet long and seven feet in diameter; (6) a powerhouse housing a 4,400-kW hydropower unit; (7) a tailrace 450 feet long; (8) a 115-kV transmission line; and (9) appurtenant facilities.

m. Locations of the application: A copy of the application is available for inspection and reproduction at the Commission's Public Reference Room, located at 888 First Street, NE, Room 2A, Washington, D.C. 20426, or by calling (202) 208-1371. The application may be viewed on the web at http://www.ferc.fed.us/online/rims.htm (call 202-208-2222 for assistance). A copy is also available for inspection and reproduction at the address in item h above.

n. Scoping Process.

The Commission staff intends to prepare a Multiple Project Environmental Assessment (MPEA) for the Parishville Project (FERC No. 10461-002) and the Allens Falls Project (FERC No. 10462-002). The staff believes that combining both the projects into one environmental document would provide the best approach for analyzing potential cumulative environmental effects associated with both projects located relatively close to one another on the West Branch of the St. Regis River.

Scoping Meetings

The Commission will hold scoping meetings, one in the daytime and one in the evening, to identify the scope of issues to be addressed in the MPEA.

The evening scoping meeting is primarily for public input, while the daytime scoping meeting will focus on resource agency concerns. All interested individuals, organizations, and agencies are invited to attend one or both of the meetings, and to assist the staff in identifying the scope of the environmental issues that should be analyzed in the MPEA. The times and locations of these meetings are as follows:

Evening Meeting

Date: August 16, 2000

Time: 7 p.m.-10 p.m.

Place: Auditorium

Parishville-Hopkinton Central School

12 County Route 47

Parishville, NY 13762

Daytime Meeting

Date: August 17, 2000

Time: 9 a.m.-12:00 p.m.

Place: High School Library

Parishville-Hopkinton Central School

12 County Route 47

Parishville, NY 13762

To help focus discussions, we will distribute a Scoping Document (SD1) outlining the subject areas to be addressed in the MPEA to the parties on the Commission's mailing lists. Copies of the SD1 will also be available at the scoping meetings.

Site Visits

The Applicant and Commission staff will conduct a site to the projects on Wednesday, August 16, 2000, starting at 10 a.m. We will meet at the Parishville Project dam on Route 72 in Parishville. Those who wish to attend the site visit should contact Peter Leitzke of FERC at (202) 219-2803 or Jerry Sabattis of Erie Boulevard Hydropoer, L.P., at (315) 413-2700 on or before August 11, 2000.

Objectives

At the scoping meetings, the staff will: (1) Summarize the environmental issues tentatively identified for analysis in the MPEA; (2) solicit from the meeting participants all available information, especially quantifiable data, on the resources at issue; (3) encourage statements from experts and the public on issues that should be analyzed in the MPEA, including viewpoints in opposition to, or in support of, the staff's preliminary views; (4) determine the resource issues to be addressed in the MPEA; (5) identify those issues that require a detailed analysis, as well as those issues that do not require a detailed analysis; and (6) identify how the projects contribute to cumulative impacts in each project area and the West Branch of the St. Regis River Basin.

Procedures

The meetings will be recorded by a stenographer and will become part of the formal record of the Commission's proceeding for these projects. Individuals presenting statements at the meetings will be asked to sign in before the meetings start and to identify themselves clearly for the record.

Individuals, organizations, and agencies with environmental expertise and concerns are encouraged to attend the meetings and to assist the staff in defining and clarifying the issues to be addressed in this MPEA.

David P. Boergers,
Secretary.

[FR Doc. 00-19456 Filed 8-1-00; 8:45 am]

BILLING CODE 6717-01-M